DEPARTMENT OF LABOR

Mine Safety and Health Administration

[OMB Control No. 1219-0083]

Proposed Extension of Information Collection: Daily Inspection of Surface Coal Mine; Certified Person; Reports of Inspection (Pertains to Surface Coal Mines)

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Daily Inspection of Surface Coal Mine; Certified Person; Reports of Inspection (Pertains to Surface Coal Mines).”

DATES: All comments must be received on or before July 28, 2025.

ADDRESSES: Comments concerning the information collection requirements of this notice may be sent by any of the methods listed below. Please note that comments received after the deadline will not be considered.

• Federal E-Rulemaking Portal: https://www.regulations.gov. Follow the on-line instructions for submitting comments for docket number MSHA-2025-0016.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

The Paperwork Reduction Act (PRA) governs paperwork burdens imposed by Federal agencies on the public for using identical questions to collect information from 10 or more persons. Paperwork burden is defined in 44 U.S.C. 3502(2) as time, effort, or financial resources expended to generate, maintain, or provide information to or for a Federal agency. Under 44 U.S.C. 3507, policies and procedures of information collection are established for controlling paperwork burdens imposed by Federal agencies on the public, including evaluating public comments.

B. Information Collection

To fulfill the statutory mandates to promote miners' health and safety, MSHA requires information under the information collection request (ICR) titled “Daily Inspection of Surface Coal Mine; Certified Person; Reports of Inspection (Pertains to Surface Coal Mines).” The information collection is intended to be used by MSHA operators and inspectors to ensure that corrective actions are taken to address any hazards found in active work areas to prevent injuries or deaths of miners.

Surface coal mines and facilities present a number of potential hazards. Highwalls, mining equipment, travelways, and the handling of mining materials present potentially hazardous conditions. Before daily examinations of working areas and surface installations were required, numerous miners lost their lives or were seriously injured in areas covered in the standard. The majority of these fatalities and injuries resulted from hazardous conditions that were not detected and immediately corrected in these areas. Mine operators ensure a safe working environment for miners by complying with the standards and conducting on shift examinations for hazardous conditions in working areas and surface installations.

Burden and costs associated with the ICR includes:

1. conducting daily inspections;

2. creating inspection records; and

3. signing or countersigning records.

Authorization and the associated rule text are described below.

1. Conducting Daily Inspections

Under 30 CFR 77.1713(a), at least once during each working shift, or more often if necessary for safety, each active working area and each active surface installation must be examined by a certified person designated by the operator to conduct examinations for hazardous conditions and any hazardous conditions noted during the examinations must be reported to the operator and must be corrected by the operator.

Under 30 CFR 77.1713(b), if any hazardous condition noted during an examination creates an imminent danger, the person conducting the examination must notify the operator and the operator must withdraw all persons from the area affected, except those exempted persons referred to in section 104(c) of the Mine Act, 30 U.S.C. 814(c), until the danger is abated.

2. Creating Inspection Records

Under 30 CFR 77.1713(c), after each examination, each certified person who conducted all or any part of the required examination must enter with ink or indelible pencil in a book approved by the Secretary the date and a report of the condition of the mine or any area of the mine which he has inspected together with a report of the nature and location of any hazardous condition found to be present at the mine. The book in which the entries are made must be kept in an area at the mine designated by the operator to minimize the danger of destruction by fire or other hazard.

3. Signing or Countersigning Records

Under 30 CFR 77.1713(d), all recorded examination reports must include a report of the action taken to abate hazardous conditions and must be signed or countersigned each day by at least one of the following persons:

(1) The surface mine foreman;

(2) The assistant superintendent of the mine;

(3) The superintendent of the mine;

(4) The person designated by the operator as responsible for health and safety at the mine; or,

(5) An equivalent mine official.

II. Desired Focus of Comments

MSHA is soliciting comments concerning the proposed information collection titled “Daily Inspection of Surface Coal Mine; Certified Person; Reports of Inspection (Pertains to Surface Coal Mines).” MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9455 to make an appointment.

Questions about the information collection requirements may be directed to the person listed in the FOR FURTHER INFORMATION CONTACT section of this notice.

III. Current Actions

This information collection request concerns provisions for Daily Inspection of Surface Coal Mine; Certified Person; Reports of Inspection (Pertains to Surface Coal Mines). MSHA has updated the data with respect to the number of respondents, responses, time burden, and burden costs supporting this information collection request from the previous information collection request.

Type of Review: Extension, without change, of a currently approved collection.

Agency: Mine Safety and Health Administration.

OMB Number: 1219-0083.

Affected Public: Business or other for-profit.

Number of Annual Respondents: 771.

Frequency: On occasion.

Number of Annual Responses: 188,812.

Annual Time Burden: 286,365 hours.

Annual Other Burden Costs: $0.

Comments submitted in response to this notice will be summarized and included in the request for Office of Management and Budget approval of the proposed information collection request; they will become a matter of public record and be available at https://www.reginfo.gov.

Song-ae Aromie Noe,
Certifying Officer, Mine Safety and Health Administration.

[FR Doc. 2025-09595 Filed 5-28-25; 8:45 am]

BILLING CODE 4510-43-P